DEPARTMENT OF HOMELAND SECURITY

Coast Guard

33 CFR Part 117

[Docket No. USCG-2016-0403]

Drawbridge Operation Regulation; Housatonic River, Stratford, CT

AGENCY: Coast Guard, DHS.

ACTION: Notice of deviation from drawbridge regulation.

SUMMARY: The Coast Guard has issued a temporary deviation from the operating schedule that governs the Metro-North Devon Bridge across the Housatonic River, mile 3.9, at Stratford, Connecticut. This deviation is necessary to allow the bridge owner to perform timber ties and headblocks replacement at the bridge.

DATES: This deviation is effective from 8 a.m. on May 31, 2016 to 8 a.m. on July 18, 2016.

ADDRESSES: The docket for this deviation [USCG-2016-0403], is available at http://www.regulations.gov. Type the docket number in the “SEARCH” box and click “SEARCH”. Click on Open Docket Folder on the line associated with this deviation.

FOR FURTHER INFORMATION CONTACT: If you have questions on this temporary deviation, call or email Judy Leung-Yee, Project Officer, First Coast Guard District, telephone (212) 514-4330, email judy.k.leung-yee@uscg.mil.

SUPPLEMENTARY INFORMATION: The Metro-North Devon Bridge, mile 3.9, across the Housatonic River, has a vertical clearance in the closed position of 19 feet at mean high water and 25 feet at mean low water. The existing bridge operating regulations are found at 33 CFR 117.207(b).

The waterway is transited by seasonal recreational vessels.

The bridge owner, Connecticut Department of Transportation, requested a temporary deviation from the normal operating schedule to perform timber ties and headblocks replacement at the bridge.

Under this temporary deviation, the Metro-North Devon Bridge will operate according to the schedule below:

a. From 8 a.m. on May 31, 2016 through 4 a.m. on June 3, 2016, the bridge will not open to marine traffic.

b. From 4 a.m. on June 3, 2016 through 8 a.m. on June 6, 2016, the bridge will open fully on signal upon 24 hr advance notice.

c. From 8 a.m. on June 6, 2016 through 4 a.m. on June 10, 2016, the bridge will not open to marine traffic.

d. From 4 a.m. on June 10, 2016 through 8 a.m. on June 13, 2016, the bridge will open fully on signal upon 24 hr advance notice.

e. From 8 a.m. on June 13, 2016 through 4 a.m. on June 17, 2016, the bridge will not open to marine traffic.

f. From 4 a.m. on June 17, 2016 through 8 a.m. on June 20, 2016, the bridge will open fully on signal upon 24 hr advance notice.

g. From 8 a.m. on June 20, 2016 through 4 a.m. on June 24, 2016, the bridge will not open to marine traffic.

h. From 4 a.m. on June 24, 2016 through 8 a.m. on June 27, 2016, the bridge will open fully on signal upon 24 hr advance notice.

i. From 8 a.m. on June 27, 2016 through 4 a.m. on July 1, 2016, the bridge will not open to marine traffic.

j. From 4 a.m. on July 1, 2016 through 8 a.m. on July 5, 2016, bridge will open in accordance with 33 CFR 117.207(b).

k. From 8 a.m. on July 5, 2016 through 4 a.m. on July 8, 2016, the bridge will not open to marine traffic.

l. From 4 a.m. on July 8, 2016 through 8 a.m. on July 11, 2016, the bridge will open fully on signal upon 24 hr advance notice.

m. From 8 a.m. on July 11, 2016 through 4 a.m. on July 15, 2016, the bridge will not open to marine traffic.

n. From 4 a.m. on July 15, 2016 through 8 a.m. on July 18, 2016, the bridge will open fully on signal upon 24 hr advance notice.

Vessels able to pass under the bridge in the closed position may do so at anytime. The bridge will not be able to open for emergencies and there is no immediate alternate route for vessels to pass.

The Coast Guard will inform the users of the waterways through our Local Notice and Broadcast to Mariners of the change in operating schedule for the bridge so that vessel operations can arrange their transits to minimize any impact caused by the temporary deviation.

In accordance with 33 CFR 117.35(e), the drawbridge must return to its regular operating schedule immediately at the end of the effective period of this temporary deviation. This deviation from the operating regulations is authorized under 33 CFR 117.35.

Dated: May 25, 2016.
C.J. Bisignano,
Supervisory Bridge Management Specialist, First Coast Guard District.

[FR Doc. 2016-12687 Filed 5-27-16; 8:45 am]

BILLING CODE 9110-04-P